DEPARTMENT OF COMMERCE

National Oceanic and Atmospheric Administration

RIN 0648-XF331

Marine Mammals; File No. 21280

AGENCY: National Marine Fisheries Service (NMFS), National Oceanic and Atmospheric Administration (NOAA), Commerce.

ACTION: Notice; issuance of permit.

SUMMARY: Notice is hereby given that a permit has been issued to the Columbus Zoo Park Association, Inc., 9990 Riverside Drive, P.O. Box 400, Powell, OH 43065-0400 [Greg Bell, Responsible Official] to import seven California sea lions (Zalophus californianus) for public display purposes.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Jennifer Skidmore or Courtney Smith, (301) 427-8401.

SUPPLEMENTARY INFORMATION: On April 7, 2017, notice was published in the Federal Register (82 FR 16998) that a request for a public display import permit had been submitted by the above-named applicant. The requested permit has been issued under the authority of the Marine Mammal Protection Act of 1972, as amended (16 U.S.C. 1361 et seq.) and the regulations governing the taking and importing of marine mammals (50 CFR part 216).

The permit authorizes the importation of seven captive-born California sea lions from Changfeng Ocean World in Shanghai City, China to the Columbus Zoo satellite facility in Myakka City, FL for the purpose of public display. The permit expires on June 9, 2022.

In compliance with the National Environmental Policy Act of 1969 (42 U.S.C. 4321 et seq.), a final determination has been made that the activity proposed is categorically excluded from the requirement to prepare an environmental assessment or environmental impact statement.

Dated: June 22, 2017.
Catherine Marzin,
Acting Deputy Director, Office of Protected Resources, National Marine Fisheries Service.

[FR Doc. 2017-13435 Filed 6-26-17; 8:45 am]

BILLING CODE 3510-22-P